DEPARTMENT OF DEFENSE

Office of the Secretary

Strategic Environmental Research and Development Program, Scientific Advisory Board

ACTION: Notice.

In accordance with section 10(a)(2) of the Federal Advisory Committee Act, announcement is made of the following Committee meeting:

Date of Meeting: September 11, 2001 from 0830 to 1145, September 12, 2001 from 0800 to 1820, and September 13, 2001 from 0800 to 1145.

Place: Holiday Inn—Cape Cod, 291 Jones Road, Harbor Room, Falmouth, MA 02540.

Matters to be Considered: Research and Development proposals and continuing projects requesting Strategic Environmental Research and Development Program funds in excess of $1M will be reviewed.

This meeting is open to the public. Any interested person may attend, appear before, or file statements with the Scientific Advisory Board at the time and in the manner permitted by the Board.

FOR FURTHER INFORMATION CONTACT: Ms. Betty Banks, SERDP Program Office, 901 North Stuart Street, Suite 303, Arlington, VA or by telephone at (703) 696-2126.

Dated: August 20, 2001.
L.M. Bynum,
Alternate OSD Federal Register Liaison Officer, Department of Defense.

[FR Doc. 01-21533 Filed 8-24-01; 8:45 am]

BILLING CODE 5001-08-M